DEPARTMENT OF TRANSPORTATION

Federal Highway Administration

Environmental Impact Statement; Kauai County, HI

AGENCY: Federal Highway Administration (FHWA), DOT.

ACTION: Notice of intent.

SUMMARY: The FHWA is issuing this notice to advise the public that an Environmental Impact Statement (EIS) will be prepared for a proposed highway project in the County of Kauai, State of Hawaii. This notice supersedes an earlier notice for the same project, published in the October 9, 1992 edition of the Federal Register (Vol. 57, No. 197).

FOR FURTHER INFORMATION CONTACT: Abraham Y. Wong, Division Administrator, Federal Highway Administration, P.O. Box 50206, Honolulu, Hawaii 96850, Telephone (808) 541-2700, x312.

SUPPLEMENTARY INFORMATION: The FHWA, in cooperation with the State of Hawaii, Department of Transportation, Highways Division, will prepare an Environmental Impact Statement for proposed improvements to Kuhio Highway (FAP 56) on the island of Kauai. This notice supersedes an earlier notice for the same project, published in the October 9, 1992 edition of the Federal Register (Vol. 57, No. 197).

The objectives of the proposed action are to alleviate existing traffic congestion along Kuhio Highway, accommodate projected traffic growth to the year 2025 for both local circulation and through traffic, provide an alternate emergency access and evacuation route to respond to emergency conditions, and provide additional roadway capacity when traffic incidents impede the normal traffic flow.

It is anticipated that several alternatives will be studied, including the no-build alternative. Possible “build” alternatives may include widening portions of Kuhio Highway, construction of a new bypass road or “relief route,” a Transportation System Management (TSM)” alternative, or some combination of these. The proposed action could also include the location and design of connector roads between the relief route and the existing Kuhio Highway.

Stakeholders and interested parties are invited to come forward with ideas for purpose and need, alternatives, alternative selection criteria, environmental concerns in all resource areas, suggestions for outreach, and other information relevant to the planning process.

Letters describing the proposed action and soliciting comments will be sent to appropriate Federal, State, and County agencies and to private organizations and individuals. Two public informational meetings will be held on Kauai to receive comments and input from the community. In addition, a formal public hearing will be held after the Draft EIS is released for public and agency review. Public notices will be given of the time and place where these meetings will be held.

Comments or questions concerning this proposed project and the EIS to be prepared should be directed to the FHWA at the address provided above.

Abraham Y. Wong,
Division Administrator, FHWA Hawaii.

[FR Doc. 02-13765 Filed 5-31-02; 8:45 am]

BILLING CODE 4910-22-M